CONSUMER PRODUCT SAFETY COMMISSION

Sunshine Act Meeting Notice

TIME AND DATE: Wednesday, April 13, 2011, 10 a.m.-11.a.m.

PLACE: Room 410, Bethesda Towers, 4330 East West Highway, Bethesda, Maryland.

STATUS: Commission Meeting—Open to the Public

Matter To Be Considered

Decisional Matter: Toddler Beds—Final Rule.

A live Webcast of the Meeting can be viewed at http://www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: April 5, 2011.
Todd A. Stevenson,
Secretary.

[FR Doc. 2011-8480 Filed 4-6-11; 11:15 am]

BILLING CODE 6355-01-P